NATIONAL FOUNDATION ON THE ARTS AND THE HUMANITIES

National Endowment for the Arts

Combined Arts Advisory Panel

Pursuant to section 10(a)(2) of the Federal Advisory Committee Act (Pub. Law 92-463), as amended, notice is hereby given that four meetings of the Combined Arts Advisory Panel to the National Council on the Arts (Access and Heritage/Preservation categories) will be held at the Nancy Hanks Center, 1100 Pennsylvania Avenue, NW, Washington, DC, 20506 as follows:

Visual Arts: November 15-16, 2001, Room 716. A portion of this meeting, from 3:30 p.m. to 4:30 p.m. on November 16th, will be open to the public for policy discussion. The remaining portions of this meeting, from 9 a.m. to 6:30 p.m. on November 15th and from 9 a.m. to 3:30 p.m. and 4:30 p.m. to 5:30 p.m. on November 16th, will be closed.

Design: November 19-20, 2001, Room 730. A portion of this meeting, from 11 a.m. to 12 p.m. on November 20th, will be open to the public for policy discussion. The remaining portions of this meeting, from 9 a.m. to 6 p.m. on November 19th and from 9 a.m. to 11 a.m. and 12 p.m. to 2 p.m. on November 20th, will be closed.

Theater/Musical Theater: November 26-29, 2001, Room 730. A portion of this meeting, from 2 p.m. to 3:30 p.m. on November 28th, will be open to the public for policy discussion. The remaining portions of this meeting, from 9:30 a.m. to 6:30 p.m. on November 26th, from 9:30 a.m. to 7 p.m. on November 27th, from 9:30 a.m. to 2 p.m. and 3:30 p.m. to 6:30 p.m. on November 28th, and from 9:30 a.m. to 2:30 p.m. on November 29th, will be closed.

Multidisciplinary/Presenting: December 3-6, 2001, Room 716. A portion of this meeting, from 2:45 p.m. to 4 p.m. on December 6th, will be open to the public for policy discussion. The remaining portions of this meeting, from 9 a.m. to 7 p.m. on December 3rd, from 9 a.m. to 6 p.m. on December 4th and 5th, and from 9 a.m. to 2:45 p.m. and 4 p.m. to 5:30 p.m. on December 6th, will be closed.

The closed portions of these meetings are for the purpose of Panel review, discussion, evaluation, and recommendation on applications for financial assistance under the National Foundation on the Arts and the Humanities Act of 1965, as amended, including information given in confidence to the agency by grant applicants. In accordance with the determination of the Chairman of May 22, 2001, these sessions will be closed to the public pursuant to (c)(4)(6) and (9)(B) of section 552b of Title 5, United States Code.

Any person may observe meetings, or portions thereof, of advisory panels that are open to the public, and, if time allows, may be permitted to participate in the panel's discussions at the discretion of the panel chairman and with the approval of the full-time Federal employee in attendance.

If you need special accommodations due to a disability, please contact the Office of AccessAbility, National Endowment for the Arts, 1100 Pennsylvania Avenue, NW., Washington, DC 20506, 202/682-5532, TDY-TDD 202/682-5496, at least seven (7) days prior to the meeting.

Further information with reference to this meeting can be obtained from Ms. Kathy Plowitz-Worden, Office of Guidelines & Panel Operations, National Endowment for the Arts, Washington, DC, 20506, or call 202/682-5691.

Dated: October 24, 2001.
Kathy Plowitz-Worden,
Panel Coordinator, Panel Operations, National Endowment for the Arts.

[FR Doc. 01-27249 Filed 10-29-01; 8:45 am]

BILLING CODE 7537-01-P